DEPARTMENT OF HEALTH AND HUMAN SERVICES

Centers for Medicare & Medicaid Services

[Document Identifier: CMS-10287 and CMS-10540]

Agency Information Collection Activities: Proposed Collection; Comment Request

AGENCY: Centers for Medicare & Medicaid Services, HHS.

ACTION: Notice.

SUMMARY: The Centers for Medicare & Medicaid Services (CMS) is announcing an opportunity for the public to comment on CMS' intention to collect information from the public. Under the Paperwork Reduction Act of 1995 (the PRA), federal agencies are required to publish notice in the Federal Register concerning each proposed collection of information (including each proposed extension or reinstatement of an existing collection of information) and to allow 60 days for public comment on the proposed action. Interested persons are invited to send comments regarding our burden estimates or any other aspect of this collection of information, including the necessity and utility of the proposed information collection for the proper performance of the agency's functions, the accuracy of the estimated burden, ways to enhance the quality, utility, and clarity of the information to be collected, and the use of automated collection techniques or other forms of information technology to minimize the information collection burden.

DATES: Comments must be received by July 6, 2020.

ADDRESSES: When commenting, please reference the document identifier or OMB control number. To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: Document Identifier/OMB Control Number __, Room C4-26-05, 7500 Security Boulevard, Baltimore, Maryland 21244-1850.

To obtain copies of a supporting statement and any related forms for the proposed collection(s) summarized in this notice, you may make your request using one of following:

1. Access CMS' website address at website address at https://www.cms.gov/Regulations-and-Guidance/Legislation/PaperworkReductionActof1995/PRA-Listing.html.

2. Email your request, including your address, phone number, OMB number, and CMS document identifier, to Paperwork@cms.hhs.gov.

3. Call the Reports Clearance Office at (410) 786-1326.

FOR FURTHER INFORMATION CONTACT: William N. Parham at (410) 786-4669.

SUPPLEMENTARY INFORMATION:

Contents

This notice sets out a summary of the use and burden associated with the following information collections. More detailed information can be found in each collection's supporting statement and associated materials (see ADDRESSES).

CMS-10287 Medicare Quality of Care Complaint Form

CMS-10540 Quality Improvement Strategy Implementation Plan and Progress Report Form

Under the PRA (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA requires federal agencies to publish a 60-day notice in the Federal Register concerning each proposed collection of information, including each proposed extension or reinstatement of an existing collection of information, before submitting the collection to OMB for approval. To comply with this requirement, CMS is publishing this notice.

Information Collection

1. Type of Information Collection Request: Revision of a currently approved collection; Title of Information Collection: Medicare Quality of Care Complaint Form; Use: Since 1986, Quality Improvement Organizations (QIO) have been responsible for conducting appropriate reviews of written complaints submitted by beneficiaries about the quality of care they have received. In order to receive these written complaints, each QIO has developed its own unique form on which beneficiaries can submit their complaints. CMS has initiated several efforts aimed at increasing the standardization of all QIO activities, and the development of a single, standardized Medicare Quality of Care Complaint Form beneficiaries can use to submit complaints is a key step towards attaining this increased standardization. The Medicare Quality of Care Complaint Form has been revised to improve its content, in order to provide clarity and support to beneficiaries. Section two of the form was updated to replace the Health Insurance Claim Number (HICN) with the current Medicare Beneficiary Identifier (MBI), a randomly generated number that replaced the SSN-based HICN. The information page of the form was revised to provide clear instruction as to how to complete the form and the implication of not providing certain requested information. Form Number: CMS-10287 (OMB control number: 0938-1102); Frequency: Occasionally; Affected Public: Individuals and Households; Number of Respondents: 4,350; Total Annual Responses: 4,350; Total Annual Hours: 725. (For policy questions regarding this collection contact Peter Ajuonuma at 410-786-3580.)

2. Type of Information Collection Request: Revision; Title of Information Collection: Quality Improvement Strategy Implementation Plan and Progress Report Form; Use: Section 1311(c)(1)(E) of the Affordable Care Act requires qualified health plans (QHPs) offered through an Exchange must implement a quality improvement strategy (QIS) as described in section 1311(g)(1). Section 1311(g)(3) of the Affordable Care Act specifies the guidelines under Section 1311(g)(2) shall require the periodic reporting to the applicable Exchange the activities that a qualified health plan has conducted to implement a strategy which is described as a payment structure providing increased reimbursement or other incentives for improving health outcomes of plan enrollees, implementing activities to prevent hospital readmissions, improving patient safety and reducing medical errors, promoting wellness and health, and/or implementing activities to reduce health and health care disparities. CMS has created a separation of the QIS form into a separate Implementation Plan, Progress Report and Modification Summary which is intended to decrease overall burden on issuers. With these separate forms, issuers would no longer need to complete and resubmit an Implementation Plan every year (which is currently the process). Issuers would only submit the Implementation Plan form in the first year of a QIS, and then issuers would submit the Progress Report form in each subsequent year (with the Modification Summary Supplement as necessary). This adjustment will eliminate the need for issuers to enter and submit unchanged data, and allow them to focus their time on reporting new progress achieved for the QIS.

The QIS form will allow: (1) The Department of Health & Human Services (HHS) to evaluate the compliance and adequacy of QHP issuers' quality improvement efforts, as required by Section 1311(c) of the Affordable Care Act, and (2) HHS will use the issuers' validated information to evaluate the issuers' quality improvement strategies for compliance with the requirements of Section 1311(g) of the Affordable Care Act. Form Number: CMS-10540 (OMB Control Number: 0938-1286) Frequency: Monthly, Annual; Affected Public: Private Sector; Number of Respondents: 250; Number of Responses: 250; Total Annual Hours: 11,000. (For policy questions regarding this collection, contact Nidhi Singh-Shah at 301-492-5110.)

Dated: April 29, 2020.
William N. Parham, III,
Director,Paperwork Reduction Staff, Office of Strategic Operations and Regulatory Affairs.

[FR Doc. 2020-09452 Filed 5-1-20; 8:45 am]

BILLING CODE 4120-01-P